DEPARTMENT OF VETERANS AFFAIRS

Funding Availability: Homeless Providers Grant and Per Diem Program

AGENCY: Department of Veterans Affairs.

ACTION: Notice of Funding Availability (NOFA).

SUMMARY: The Department of Veterans Affairs (VA) is announcing the availability of funds to eligible entities to provide time-limited case management services to improve the retention of housing by Veterans who were previously homeless and are transitioning to permanent housing from programs such as VA's Homeless Providers Grant and Per Diem (GPD) Program or VA's Healthcare for Homeless Veterans (HCHV) Contracted Residential Services (CRS) Program.

DATES: Applications for case management grants under the GPD Program must be received by the GPD National Program Office by 4:00 p.m. Eastern Time on Monday, May 20, 2019. In the interest of fairness to all competing applicants, this deadline is firm as to date and hour, and VA will treat as ineligible for consideration any application that is received after the deadline. Applicants should take this practice into account and make early submission of their materials to avoid any risk of loss of eligibility brought about by unanticipated delays, computer service outages, or other submission-related problems.

For a Copy of the Application Package: The required documentation for an application submission is outlined under the Application Documentation Required section of this NOFA. Questions should be referred to the GPD National Program Office by email at GPDgrants@va.gov. For detailed GPD Program information and requirements, see part 61 of Title 38, Code of Federal Regulations (38 CFR part 61).

Submission of Application Package: Applicants must submit applications electronically following instructions found at www.va.gov/homeless/gpd.asp. Applications may not be mailed, emailed, or sent by fax. Applications must be received by the GPD Program Office by 4:00 p.m. Eastern Time on the application deadline date. Applications must be submitted as a complete package. Materials arriving separately will not be included in the application package for consideration and may result in the application being rejected or not funded. See Funding Limitations section of this NOFA for maximum allowable grant amounts.

Technical Assistance: Information regarding how to obtain technical assistance with the preparation of a case management grant application is available on the GPD Program website at: www.va.gov/homeless/gpd.asp.

FOR FURTHER INFORMATION CONTACT: Mr. Jeffery L. Quarles, Director, VA GPD National Program, at GPDGrants@va.gov.

SUPPLEMENTARY INFORMATION: Funding Opportunity Title: Grant and Per Diem Case Management Services Grant Program.

Announcement Type: Initial.

Funding Opportunity Number: VA-GPD-CM-FY2019.

Catalog of Federal Domestic Assistance Number: 64.024, VA Homeless Providers Grant and Per Diem Program.

I. Funding Opportunity Description

A. Purpose: In an effort to reduce homelessness in the Veteran population, Congress required VA to expand its benefits for homeless Veterans by establishing a new grant program. See Public Law 114-315, sec. 712 (December 16, 2016) (codified as 38 United States Code (U.S.C.) 2013). This case management NOFA will provide funds to organizations within communities that provide case management services to improve the retention of housing by Veterans who were previously homeless and are transitioning to permanent housing and to Veterans who are at risk of becoming homeless.

To ensure that grant funding is used to provide case management services to as many Veterans as possible, grant funds under this program may not be used for Veterans who are receiving case management services from permanent supportive housing programs (e.g., Housing and Urban Development-VA Supportive Housing (HUD-VASH)) or rapid re-housing/homeless prevention programs (e.g., Supportive Services for Veterans Families (SSVF)).

Examples of case management services that grantees can provide using these grant funds include, but are not limited to, the following:

1. Making home visits by the case manager to monitor housing stability;

2. Providing or coordinating educational activities related to meal planning, tenant responsibilities, the use of public transportation, community resources, financial management, development of natural supports;

3. Making referrals to needed services, such as mental health, substance use disorder, medical, and employment services; and

4. Participating in case conferencing with other service providers who are working with the Veteran.

There is a 6-month time limit for Veterans to receive case management services. However, VA may approve a request to extend services beyond the 6-month period if an organization submits a request to VA in writing, and VA approves it before the 6-month time limit expires. Because in most circumstances case management services are provided to Veterans after they have been in receipt of benefits under the GPD or HCHV CRS Programs, VA believes that 6 months would, in most cases, be sufficient time for a Veteran to have the necessary tools in place to retain permanent housing.

B. Definitions: Title 38 CFR part 61 contains definitions of terms used in the GPD Program that are applicable to this NOFA.

C. VHA Homeless Programs Referenced in this NOFA:

1. The GPD Program provides grant funding to community-based organizations to provide transitional housing and supportive services to homeless Veterans. Case management grants are part of the GPD Program.

2. The HCHV Contracted Residential Services Program places Veterans who qualify for VA health care in need of an immediate housing placement into short-term community-based supportive housing with the goal of transitioning Veterans to permanent housing and/or additional care.

3. The SSVF Program provides grant funding to community-based organizations to assist very low-income veteran families residing in or transitioning to permanent housing. SSVF grantees provide a range of supportive services to eligible Veteran families that are designed to promote housing stability.

4. The HUD-VASH Program is a collaborative program between HUD and VA, which combines HUD housing vouchers with VA supportive services to help Veterans and their families who are homeless find and sustain permanent housing.

D. Eligibility Information: To be eligible, an applicant must be a 501(c)(3) or 501(c)(19) non-profit organization, state or local government agency, or recognized Indian Tribal Government. See 38 CFR 61.1. Additionally, as this grant is primarily intended to serve Veterans discharging from GPD and HCHV CRS programs, the VA medical facility catchment area must have occupied beds serving Veterans that would be appropriate for case management services once they exit their transitional housing program. See Funding Restrictions regarding the limitations on the number of case management positions that may be awarded and the maximum award amounts.

E. Cost Sharing or Matching: None.

F. Authority: 38 U.S.C. 2013, as implemented in regulation at 38 CFR 61.90-98.

II. Award Information

A. Overview: This NOFA announces the availability of funding to eligible 501(c)(3) and 501(c)(19) non-profit organizations, state and local governments, and Indian Tribal governments for the provision of case management services primarily for Veterans transitioning from either VA's GPD or HCHV CRS programs. A separate application is required for each VA medical facility catchment area. VA expects to fund approximately 133 case management positions with this NOFA. Applicants must agree to meet the applicable requirements of 38 CFR part 61.

B. Allocation of Funds: Approximately $30 million is available for this grant component. Funding will be for a period of 2 years beginning on October 1, 2019, and ending on September 30, 2021. Funding for the entire grant award period will be obligated at the time of award and available for draw down by the grantee over the award period. Monthly reimbursements will be issued based on costs incurred by the grantee. Funding will be awarded under this NOFA depending on funding availability and subject to program authorization.

C. Funding Restrictions: Questions regarding funding restrictions should be directed to the GPD National Program Office using the email listed in the Contact section. The following restrictions apply to this award:

1. Applicants may not receive funding to replace funds provided by any Federal, state, or local government agency or program to assist homeless persons.

2. No part of an award under this NOFA may be used to facilitate capital improvements or to purchase vans or real property. Vehicles may be leased to facilitate required transportation within the community.

3. Only full-time case management position requests will be funded. A full-time case management position, per this NOFA, is defined as an average of 40 hours weekly or 80 hours biweekly. Workload may be shared between multiple staff.

D. Funding Limitations: To facilitate geographic dispersion of this case management resource, VA has established the following limitations:

1. Case management services grant funding may be used for the following administrative purposes:

(a) Providing funding for case management staff;

(b) Providing transportation for the case manager;

(c) Providing cell phones and computers to facilitate home visits and other case management activities associated with the grant; and

(d) Providing office furniture for the use of the case management staff.

2. The maximum 2-year award, per full-time funded case management position, is $225,000. From this amount the following funding limitations apply:

(a) Grantees may allocate a maximum of $15,000 for transportation costs per case management position.

(b) Grantees may allocate a maximum of $4,000 for cell phones and computers per case management position.

3. To facilitate geographic dispersion of this case management resource the number of funded positions at each VA medical facility catchment area will be limited as follows:

(a) The following VA medical facilities may be funded for up to three, full-time case management positions: VA Greater Los Angeles Healthcare System (station 691); Las Vegas, Nevada (station 593); Coatesville, Pennsylvania (station 542); VA Tennessee Valley Healthcare System, Tennessee (station 626); Orlando, Florida (station 675); Dallas, Texas (station 549); Phoenix, Arizona (station 644); VA Central Western Massachusetts Healthcare System (station 631); Columbia, South Carolina (station 544); Philadelphia, Pennsylvania (station 642); Bay Pines, Florida (station 561); Denver, Colorado (station 554); Jesse Brown VA Medical Center (Chicago), Illinois (station 537); Cleveland, Ohio (station 541); San Diego, California (station 664); Tampa, Florida (station 673); Portland, Oregon (station 648); N. California, California (station 612); VA Maryland Healthcare System, MD (station 512); Charleston, South Carolina (station 534); San Francisco, California (station 662); Detroit, Michigan (station 553); and Honolulu, Hawaii (station 459). VA medical facility catchment area assignment will be determined by the applicant's response in the Project Summary (section D, question 1).

(b) All other VA medical facility catchment areas not identified above, may be funded for up to one full-time case management position.

(c) VA's decisions regarding the number of full-time management positions to be allocated among the catchment areas will be based on factors such as need, geographic dispersion, and availability of funding subject to the upper limits set in paragraph 3.(a) and 3.(b) above.

E. Funding Priorities: VA has established the following funding priorities.

1. Priority 1. VA will place in the first funding priority those applications from operational GPD-funded organizations that have provided a written commitment to give up per diem or special need funding and convert their transitional housing to permanent housing. In order to obtain this priority, organizations must provide documentation showing that their permanent housing meets the housing quality standards established under section 8(o)(8)(B) of the United States Housing Act of 1937 (42 U.S.C. 1437f(o)(8)(B)). Applicants wishing to be considered under funding Priority 1 must submit with their application a signed letter on agency letterhead noting that, if selected for funding, the agency withdraws from their currently operational GPD project. This letter of commitment must be provided as an attachment to the case management grant application. Applications will then be ranked within the funding priority.

2. Priority 2. VA will place in the second funding priority those applications from organizations that demonstrate a capability to provide case management services, particularly organizations that are successfully providing transitional housing services using grants provided by VA under 38 U.S.C. 2012 and 2061. Applications will then be ranked within the funding priority.

3. Priority 3. VA will place in the third funding priority those applications from other organizations without a GPD grant that seek to provide time limited case management to formerly homeless Veterans who have exited VA transitional housing or other VA homeless residential treatment services to permanent housing. Applications will then be ranked within the funding priority.

F. Payment: Payments will be in a method that is in accordance with VA and other Federal fiscal requirements. Awardees will be subject to requirements of this NOFA, GPD regulations, 2 CFR part 200, and other Federal grant requirements. A full copy of the regulations governing the GPD Program is available at the GPD website at: www.va.gov/homeless/gpd.asp.

III. Application and Submission Information

A. To Obtain a Grant Application: The required documentation for an application submission is outlined below in the Application Documentation Required section of this NOFA. Standard forms, which must be included as part of a complete application package, may be downloaded directly from VA's GPD Program web page at: www.va.gov/homeless/gpd.asp. Questions should be referred to the GPD National Program Office at GPDGrants@va.gov. For detailed GPD Program information and requirements, see 38 CFR part 61.

B. Content and Form of Application: VA is seeking to focus resources to assist homeless Veterans with housing retention. If your agency is unclear as to how to submit an application, contact the GPD National Program Office for clarification prior to submission of any application to ensure it is submitted in the correct format. Applicants should ensure that they include all required documents in their electronic application submission, carefully follow the format, and provide the information requested and described below. Submission of an incorrect, incomplete, or incorrectly formatted application package will result in the application being rejected.

IV. Application Documentation Required

A. Standard Forms:

1. Application for Federal Assistance (SF-424);

2. Non-Construction Budget (SF-424A); and

3. Non-Construction Assurances (SF-424B).

B. Eligibility:

1. Nonprofit organizations must provide evidence of private nonprofit status by submitting a copy of their Internal Revenue Service (IRS) ruling demonstrating tax-exempt status under the IRS Code of 1986, as amended.

2. State/local government entities must provide a copy of any comments or recommendations by approved state and (area wide) clearinghouses pursuant to Executive Order 12372.

C. Documentation of being actively registered in the System for Award Management (SAM): All applicants must have an active registration in SAM corresponding to the Data Universal Numbering System number provided on the Application for Federal assistance (SF424). Provide your current Commercial and Government Entity code and SAM expiration date.

D. Project Summary:

1. Oversight and monitoring of case management grants will be provided by the VA medical facility whose catchment area includes the location of the administrative office where the program records for this grant will be maintained. A separate application is required for each VA medical facility catchment area. Provide the name of this VA medical facility.

2. Name and three-digit Continuum of Care number(s) where services will be provided.

3. Number of full-time case management positions requested (subject to the limits described in the Funding Limitations section).

4. Total funding requested for the entire 2-year grant award period. This amount is subject to the limitations described in the Funding Limitations section of this NOFA.

5. Budget narrative—breakdown the Total Funding Requested, in question 4 above, into the allowable cost categories as identified in the Funding Limitations section of this NOFA.

6. Identify the county or counties which will be serviced by the case management staff.

7. Identify the funding priority of this application.

E. Applicant Contact Information:

1. Location of the case manager(s) office where program records will be retained. Include the complete address, city, state, zip code + four-digit extension, county, and congressional district.

2. Location of the administrative office where correspondence can be sent to the Executive Director/President/CEO (no P.O. Boxes). Include complete address, city, state, zip code + four-digit extension, county, and congressional district.

3. Organization Primary Contact: Include the name, title, phone, fax and email address. Note: This contact is assigned to the organization, not a specific grant award, and is normally someone who signs grant agreements or makes all executive decisions for the organization. This is most often the CEO, the President, or Executive Director. Grant organizations with multiple awards can only have one Organization Contact.

4. Grant Contact #1: Include the name, title, phone, fax, and email address. Note: This contact is specific to this grant application and may be a Program Manager, Director, Case Manager, Grant Administrator, or other position overseeing the GPD grant project.

5. Grant Contact #2: Include the name, title, phone, fax, and email address. Note: This contact may be a CFO, financial manager, or other position overseeing the financial responsibilities of the GPD grant project.

6. A complete listing of your agency's officers of the Board of Directors and their address, phone, fax, and email addresses.

F. Project Abstract: In approximately 500 words, provide a brief abstract of the proposed case management project.

G. Detailed Project Description: This is the portion of the application that describes your proposed case management grant. VA Reviewers will focus on how the application addresses the areas of project plan, ability, need, and coordination including how support services will be coordinated in relationship to your selected model. The requirements in this section are consistent with 38 CFR part 61 subpart G (see 38 CFR 61.92).

1. Project Plan (see 38 CFR 61.92(c)):

(a) Project Plan—In approximately 500 words describe the referral and acceptance process for case management services. Including how your agency will outreach to local community HCHV and GPD providers to identify Veterans within your community who would be eligible for these services.

(b) Project Plan—In approximately 500 words, describe how Veterans will be assessed for acuity or need for services. When demand for services is greater than what can be provided by the case manager(s), how will Veterans be prioritized?

(c) Project Plan—In approximately 500 words, describe your case management services.

(d) Project Plan—In approximately 500 words, describe how services for Veterans will be individualized to assist them in retaining their housing.

(e) Project Plan—In approximately 250 words, describe how education will be provided to case management participants, as needed, in the areas of tenant rights and responsibilities, rental/lease agreements, landlord's rights and responsibilities, and budgeting.

(f) Project Plan—In approximately 250 words, describe the minimum frequency of contacts with Veterans and the method(s) of contact (e.g. home visits, phone contact).

(g) Project Plan—In approximately 250 words, describe the resources that will be provided to the case manager to facilitate engagement with Veterans (e.g., vehicle, cell phone, computer, office space).

(h) Project Plan—In approximately 500 words, describe how crisis intervention will be utilized to coordinate intervention for medical, psychiatric, and substance abuse needs in order to promote the retention of permanent housing.

(i) Project Plan—In approximately 500 words, describe how case management will be phased out over time prior to termination of services (Note, 38 CFR 61.90(c), case management services may be authorized for up to 6 months, unless VA receives and approves a written request for additional time before the 6-month time limit expires). Include discussion as to how your organization will assess Veterans periodically for reduced or increased case management engagement.

(j) Project Plan—In approximately 500 words, describe your organizations' involvement with your communities coordinated entry system and how this project fits into this system.

2. Ability (see 38 CFR 61.92(d)):

(a) Ability—In approximately 500 words, provide information about the proposed case management position(s), including the minimum education, training, skills, and prior work experience requirements. Include the number of hours per week, per case management position requested, that will be dedicated to this grant. If identifying specific licenses or degrees required for the position, list all acceptable credentials.

(b) Ability—In approximately 1,000 words, provide information regarding your organization's previous experience providing community-based case management services, particularly targeted to assisting formerly homeless persons in retaining permanent housing, which includes, but is not limited to, responding to medical, mental health or substance use crises; and working with landlords as part of supportive housing services.

(c) Ability—In approximately 1,000 words, describe any past performance with federal, state, or local grants or contracts, including audits by private or public entities, to provide services to homeless persons.

3. Need: When providing information to support the need for case management services, keep in mind that your discussion should not include Veterans already receiving case management through HUD-VASH or SSVF permanent housing programs (see 38 CFR 61.92(e)).

(a) Need—In approximately 1,000 words, discuss the overall need for these case management services to assist unserved Veterans with housing retention in your community. Provide community level data that supports your assertions regarding need.

(b) Need—In approximately 250 words, discuss how many GPD and HCHV providers (including approved number of operational beds) are currently in your community.

(c) Need—In approximately 500 words, identify the specific GPD and HCHV grantees that your agency intends to accept case management referrals from. Provide the grantee name, type of grant (HCHV or GPD), housing model, number of beds, county, and state for each project.

Example 1: Grantee One; GPD; Low Demand; 20 beds; Hillsborough County, Florida.

Example 2: Grantee Two; HCHV; CRS; 10 beds; Hillsborough County, Florida.

(d) Need—In approximately 500 words, discuss how many formally homeless Veterans your organization anticipates serving using the proposed case management position(s) during the first 12 months of the grant award period. Explain how you determined this number of Veterans.

4. Coordination (see 38 CFR 61.92(g)):

(a) Coordination—In approximately 1,000 words, describe how you have coordinated this proposal with the local VA medical facilities, including how medical care, mental health, substance use care will be coordinated. Letters may be included to demonstrate coordination.

(b) Coordination—In approximately 1,000 words, describe how you have coordinated this proposal with the local HCHV and GPD providers in your community who would potentially be referring Veterans for case management services. Letters may be included to demonstrate coordination.

(c) Coordination—In approximately 500 words, discuss how this project has been coordinated with the local Continuum of Care. Letters may be included to demonstrate coordination.

V. Application Review Information

A. Criteria for Grants: VA will only score applications that meet the threshold requirements described in 38 CFR 61.92. VA will use the rating criteria described in 38 CFR 61.92 to score grant applications. Applications will be awarded priority as described in 38 CFR 61.94. Applications will then be ranked within the funding priority of the applicant based on that score.

B. Tie Score: In the event of a tie score between applications, VA will determine, at its discretion, if both grants should be selected for funding or if the awards will be funded for a lesser amount than requested.

VI. Award Administration Information

A. Award Notice: Although subject to change, the GPD National Program Office expects to announce grant awards in the fourth quarter of FY 2019. The initial announcement will be made via news release which will be posted on VA's National GPD Program website at www.va.gov/homeless/gpd.asp. Following the initial announcement, the GPD Office will send notification letters to the grant recipients. Applicants who are not selected will be sent a declination letter within 2 weeks of the initial announcement.

B. Administrative and National Policy: VA places great emphasis on responsibility and accountability. VA has procedures in place to monitor services provided to homeless Veterans and outcomes associated with the services provided under this GPD Program.

C. Reporting: Grantees should be aware of the following:

1. Upon execution of a case management grant agreement with VA, grantees will have a liaison appointed from a nearby VA medical facility to provide oversight and monitor services provided to homeless Veterans in the program.

2. Each funded program will participate in VA's national program monitoring and evaluation as these procedures will be used to determine successful outcomes for each grant.

3. VA will complete regular monitoring evaluations of each grantee to include, at a minimum, a quarterly review of the grantees' performance, helping Veterans maintain housing stability, adequate income support, and self-sufficiency as identified in each case management application. Monitoring may also include a financial review to ensure compliance with program requirements. The grantee will be expected to demonstrate adherence to the grantee's proposed program concept, as described in the grantee' application. All grantees are subject to audits conducted by VA or its representative.

4. Grantees will be assessed based on their ability to meet critical performance measures. In addition to meeting program requirements defined by the regulations and this NOFA, grantees will be assessed on the following:

(a) The percentage of Veterans who received case management services under the program who were able to retain permanent housing by the end of the program.

(b) The percentage of Veterans who received case management services under the program who were not in permanent housing at the end of the program, disaggregated by housing status and reason for failing to retain permanent housing under the program.

(c) An assessment of the employment status of Veterans who received case management services under the program, including a comparison of the employment status of such Veterans before and after receiving such services.

Signing Authority

The Secretary of Veterans Affairs, or designee, approved this document and authorized the undersigned to sign and submit the document to the Office of the Federal Register for publication electronically as an official document of the Department of Veterans Affairs. Robert L. Wilkie, Secretary, Department of Veterans Affairs, approved this document on March 15, 2019, for publication.

Dated: March 18, 2019.
Luvenia Potts,
Program Specialist, Office of Regulation Policy & Management, Office of the Secretary, Department of Veterans Affairs.

[FR Doc. 2019-05359 Filed 3-20-19; 8:45 am]

BILLING CODE 8320-01-P